CHEMICAL SAFETY AND HAZARD INVESTIGATION BOARD

Sunshine Act Meeting

TIME AND DATE: Wednesday, June 25, 2025, 2:00 p.m. EDT (2 hours)

PLACE: The meeting will be held virtually via ZOOM. The link is below and will be available at: www.csb.gov.

June 25, 2025: https://www.zoomgov.com/j/1616715524?pwd=ItkbMA8MqYJx4Tab2mNsOP02O47hfc.1.

Meeting ID: 161 671 5524.

Passcode: 865654.

STATUS: Open to the public.

MATTERS TO BE CONSIDERED: The Chemical Safety and Hazard Investigation Board (CSB) will convene a public meeting on June 25, 2025, at 2:00 p.m. EDT. This meeting replaces the original meeting scheduled for July 24, 2025, and serves to fulfill the CSB's requirement to hold a minimum of four public meetings for Fiscal Year 2025 pursuant to 40 CFR 1600.5(c). The Board will review the CSB's progress in meeting its mission and as appropriate highlight safety products newly released through investigations and safety recommendations.

CONTACT PERSON FOR FURTHER INFORMATION: Hillary Cohen, Communications Manager, at public@csb.gov or (202) 446-8094. Further information about these public meetings can be found on the CSB website at: www.csb.gov.

Additional Information:

Background

The CSB is an independent federal agency charged with investigating incidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Participation

The meeting is free and open to the public. The meeting will only be available via ZOOM. Close captions (CC) will be provided. At the close of the meeting, there will be an opportunity for public comment. To submit public comments for the record please email the agency at public@csb.gov.

Dated: June 13, 2025.
Steven Messer,
Acting General Counsel, U.S. Chemical Safety and Hazard Investigation Board.

[FR Doc. 2025-11191 Filed 6-16-25; 11:15 am]

BILLING CODE 6350-01-P